DEPARTMENT OF HEALTH AND HUMAN SERVICES

National Institutes of Health

National Heart, Lung, and Blood Institute; Notice of Meeting

Pursuant to section 1009 of the Federal Advisory Committee Act, as amended, notice is hereby given of a meeting of the Sleep Disorders Research Advisory Board.

The meeting will be held as a hybrid meeting held in-person and virtually and will be open to the public as indicated below. Individuals who plan to view the virtual meeting and need special assistance or other reasonable accommodations to view the meeting, should notify the Contact Person listed below in advance of the meeting. The meeting can be accessed from the NIH Videocast at the following link: https://nih.zoomgov.com/webinar/register/WN_G0XjFQVmTxKSDLzWOijixw.

Name of Committee: Sleep Disorders Research Advisory Board.

Date: April 4-5, 2024.

Time: April 4, 2024, 1:00 p.m.-5:00 p.m.

April 5, 2024, 9:00 a.m.-1:30 p.m.

Agenda: The purpose of this meeting is to update the Advisory Board and public stakeholders on the progress of sleep and circadian research activitiesacross NIH, and the activities of Federal stakeholders and interested organizations.

Place: National Institutes of Health, Rockledge II, 6701 Rockledge Drive, Rm 260C/D, Bethesda, MD 20817 (Hybrid Meeting).

The event is free and open to the public; however, registration is required. Please use this link to register: https://nih.zoomgov.com/webinar/register/WN_G0XjFQVmTxKSDLzWOijixw.

Contact Person: Marishka Brown, Ph.D., SDRAB Executive Secretary, Director, National Center on Sleep Disorders Research, Division of Lung Diseases, National Heart, Lung, and Blood Institute, National Institutes of Health, 6705 Rockledge Drive, Suite 407B, Bethesda, MD 20892, 301-435-0199, ncsdr@nih.gov.

Any member of the public interested in presenting oral comments to the committee must notify the Contact Person listed on this notice at least 12 days in advance of the meeting. Interested individuals and representatives of organizations must submit a letter of intent, a brief description of the organization represented, and a short description of the oral presentation. Only one representative of an organization may be allowed to present oral comments and if accepted by the committee, presentations may be limited to five minutes. Both printed and electronic copies are requested for the record. In addition, any interested person may file written comments with the committee by forwarding their statement to the Contact Person listed on this notice. The statement should include the name, address, telephone number and when applicable, the business or professional affiliation of the interested person.

Information is also available on the Institute's/Center's home page: https://www.nhlbi.nih.gov/about/advisory-and-peer-review-committees/sleep-disorders-research where an agenda and any additional information for the meeting will be posted when available.

(Catalogue of Federal Domestic Assistance Program Nos. 93.233, National Center for Sleep Disorders Research; 93.837, Heart and Vascular Diseases Research; 93.838, Lung Diseases Research; 93.839, Blood Diseases and Resources Research, National Institutes of Health, HHS).

Dated: February 21, 2024.
Melanie J. Pantoja,
Program Analyst, Office of Federal Advisory Committee Policy.

[FR Doc. 2024-03905 Filed 2-26-24; 8:45 am]

BILLING CODE 4140-01-P